DEPARTMENT OF ENERGY

Federal Energy Regulatory Commission

Combined Notice of Filings # 1

August 13, 2008.

Take notice that the Commission received the following electric rate filings:

Docket Numbers: ER99-3665-008; ER02-1947-009.

Applicants: Occidental Power Marketing LP; Occidental Power Services, Inc.

Description: Occidental Power Marketing, LP et al. submits an updated market power analysis and rate schedule revisions pursuant to Order 697 and 697-A.

Filed Date: 08/12/2008.

Accession Number: 20080813-0157.

Comment Date: 5 p.m. Eastern Time on Tuesday, September 02, 2008.

Docket Numbers: ER00-3080-003.

Applicants: Otter Tail Power Company.

Description: Otter Tail Power Company submits revisions to Substitute First Revised Sheet 2 to FERC Electric Tariff, Original Volume 9 to comply with Order 697 and 697-A.

Filed Date: 08/11/2008.

Accession Number: 20080813-0158.

Comment Date: 5 p.m. Eastern Time on Tuesday, September 02, 2008.

Docket Numbers: ER01-2636-004.

Applicants: ALLETE, Inc.

Description: ALLETE, Inc. submits revisions to its Wholesale Coordination Sales Tariff 2 to participate in the Midwest Independent Transmission System Operator, Inc.'s Ancillary Services Market etc. pursuant to Order 697 and 697-A.

Filed Date: 08/11/2008.

Accession Number: 20080813-0106.

Comment Date: 5 p.m. Eastern Time on Tuesday, September 02, 2008.

Docket Numbers: ER01-3103-015.

Applicants: Astoria Energy LLC.

Description: Astoria Energy LLC submits a revised original Tariff submitted on 6/30/08 with a red-line and designated in the fashion requested by FERC staff.

Filed Date: 08/11/2008.

Accession Number: 20080813-0160.

Comment Date: 5 p.m. Eastern Time on Tuesday, September 02, 2008.

Docket Numbers: ER04-452-002.

Applicants: PurEnergy, LLC.

Description: Pure Energy, Inc. submits its Order 697 Compliance Filing and Application for Category 1 Status.

Filed Date: 08/11/2008.

Accession Number: 20080813-0114.

Comment Date: 5 p.m. Eastern Time on Tuesday, September 02, 2008.

Docket Numbers: ER06-270-001; ER06-271-001.

Applicants: Solios Power LLC, Solios Asset Management LLC; Solios Power LLC.

Description: Solios Power, LLC et al. submits Substitute Original Sheet 3 to First Revised Rate Schedule 1, which includes a full citation to the order granting waivers and blanket authorizations.

Filed Date: 08/11/2008.

Accession Number: 20080813-0161.

Comment Date: 5 p.m. Eastern Time on Tuesday, September 02, 2008.

Docket Numbers: ER07-515-001.

Applicants: Domtar Corporation.

Description: Domtar Corporation submits Substitute First Revised Sheets 1 and 2 to Rate Schedule FERC 1 to clarify its 6/27/08 triennial market power update etc.

Filed Date: 08/07/2008.

Accession Number: 20080811-0002.

Comment Date: 5 p.m. Eastern Time on Thursday, August 28, 2008.

Docket Numbers: ER08-824-002.

Applicants: PJM Interconnection, L.L.C.

Description: PJM Interconnection, LLC submits First Revised Sheet 388F et al. to FERC Electric Tariff, Sixth Revised Volume 1 in compliance with FERC's 6/12/08 Order.

Filed Date: 08/12/2008.

Accession Number: 20080813-0108.

Comment Date: 5 p.m. Eastern Time on Tuesday, September 02, 2008.

Docket Numbers: ER08-1189-001.

Applicants: Indeckyerkes Ltd Partnership.

Description: Indeck-Yerkes Limited Partnership submits an amendment to their 6/30/08 application for order accepting initial tariff and granting Category 1 Status, Certain Waivers, and Blanket Approvals.

Filed Date: 08/07/2008.

Accession Number: 20080811-0088.

Comment Date: 5 p.m. Eastern Time on Thursday, August 28, 2008.

Docket Numbers: ER08-1243-001.

Applicants: New York Independent System Operator, Inc.

Description: Amendment to request for limited waiver and request for waiver of notice and comment procedures of the New York Independent System Operator, Inc.

Filed Date: 08/11/2008.

Accession Number: 20080813-0103.

Comment Date: 5 p.m. Eastern Time on Tuesday, September 02, 2008.

Docket Numbers: ER08-1293-001; ER08-1294-001; ER08-1296-001; ER08-1297-001; ER08-1300-001.

Applicants: Crystal Lake Wind, LLC; Crystal Lake Wind II, LLC; Osceola Windpower II, LLC; Ashtabula Wind, LLC; Story Wind, LLC.

Description: Crystal Lake Wind, LLC et al. submits a revised Appendix B-1 to the applications filed on 7/25/08 for market-based rate authority and generation assets.

Filed Date: 08/11/2008.

Accession Number: 20080813-0101.

Comment Date: 5 p.m. Eastern Time on Tuesday, September 02, 2008.

Docket Numbers: ER08-1340-001; ER08-1341-001; ER08-1342-001.

Applicants: Florida Power & Light Company; Progress Energy Florida; Tampa Electric Company.

Description: Tampa Electric Co et al. submits omitted signature pages for Homestead Energy Services and Progress Energy—Florida of the Florida Reserve Sharing Group Agreement.

Filed Date: 08/11/2008.

Accession Number: 20080813-0104.

Comment Date: 5 p.m. Eastern Time on Tuesday, September 02, 2008.

Docket Numbers: ER08-1383-000.

Applicants: Golden Spread Electric Cooperative, Inc.

Description: Golden Spread Electric Cooperative, Inc. submits Special Facilities Agreement with Country Electric Cooperative, Inc, First Revised Sheet 221-299 to Golden Spread's First Revised Rate Schedule 28.

Filed Date: 08/11/2008.

Accession Number: 20080813-0107.

Comment Date: 5 p.m. Eastern Time on Tuesday, September 02, 2008.

Docket Numbers: ER98-2640-028.

Applicants: Northern States Power Company—Wisconsin, Northern States Power Company—Minnesota, Northern States Power Company and Northe.

Description: Northern States Power Co—Minnesota and Northern States Power Co—Wisconsin submits compliance filing to include language in NSP market-based rate tariff, Fourth Revised Sheet 1 to FERC Electric Tariff, Original Volume 6.

Filed Date: 08/11/2008.

Accession Number: 20080813-0105.

Comment Date: 5 p.m. Eastern Time on Tuesday, September 02, 2008.

Take notice that the Commission received the following electric securities filings:

Docket Numbers: ES08-58-000.

Applicants: AEP Texas Central Company.

Description: Authorization to Issue Securities.

Filed Date: 08/12/2008.

Accession Number: 20080812-5075.

Comment Date: 5 p.m. Eastern Time on Friday, August 22, 2008.

Take notice that the Commission received the following open access transmission tariff filings:

Docket Numbers: OA07-44-004.

Applicants: El Paso Electric Company.

Description: El Paso Electric Company's Compliance Filing revised sheets to its open Access Transmission Tariff pursuant to Order No. 890 OATT.

Filed Date: 08/12/2008.

Accession Number: 20080812-5067.

Comment Date: 5 p.m. Eastern Time on Tuesday, September 02, 2008.

Docket Numbers: OA07-60-004.

Applicants: Idaho Power Company.

Description: Idaho Power Company's Compliance Filing and corresponding revised Open Access Transmission Tariff sheets.

Filed Date: 08/07/2008.

Accession Number: 20080807-5089.

Comment Date: 5 p.m. Eastern Time on Thursday, August 28, 2008.

Docket Numbers: OA08-5-003.

Applicants: Southwest Power Pool, Inc.

Description: Southwest Power Pool, Inc. submits revisions to its Open Access Transmission Tariff in compliance with the Commission's Order 890, to be effective 8/11/08.

Filed Date: 08/11/2008.

Accession Number: 20080813-0102.

Comment Date: 5 p.m. Eastern Time on Tuesday, September 02, 2008.

Docket Numbers: OA08-41-001.

Applicants: MidAmerican Energy Company.

Description: Compliance filing.

Filed Date: 08/12/2008.

Accession Number: 20080812-5094.

Comment Date: 5 p.m. Eastern Time on Tuesday, September 02, 2008.

Docket Numbers: OA08-45-001.

Applicants: Portland General Electric Company.

Description: Amendment to Application of Portland General Electric Company for its revised Order 890 OATT Attachment K.

Filed Date: 08/12/2008.

Accession Number: 20080812-5120.

Comment Date: 5 p.m. Eastern Time on Tuesday, September 02, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-19347 Filed 8-20-08; 8:45 am]

BILLING CODE 6717-01-P